INTERNATIONAL TRADE COMMISSION

[Investigation Nos. 701-TA-624-625 and 731-TA-1450-1451 (Final)]

Quartz Surface Products From India and Turkey; Revised Schedule for the Subject Investigations

AGENCY: United States International Trade Commission.

ACTION: Notice.

DATES: February 6, 2020.

FOR FURTHER INFORMATION CONTACT: Julie Duffy (202-708-2579), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On January 3, 2020, the Commission established a schedule for the conduct of the final investigations (85 FR 933, January 8, 2020). The Commission is revising its schedule by changing the hearing date and date for filing posthearing briefs.

The Commission's revised dates in the schedule are as follows: the hearing will be held at the U.S. International Trade Commission Building at 9:30 a.m. on April 29; the deadline for filing posthearing briefs is May 6.

For further information concerning this proceeding see the Commission's notice cited above and the Commission's Rules of Practice and Procedure, part 201, subparts A through E (19 CFR part 201), and part 207, subparts A, D, E, and F (19 CFR part 207).

Authority: These investigations being conducted under authority of title VII of the Tariff Act of 1930; this notice is published pursuant to section 207.62 of the Commission's rules.

By order of the Commission.
Issued: February 6, 2020.
Lisa Barton,
Secretary to the Commission.

[FR Doc. 2020-02679 Filed 2-10-20; 8:45 am]

BILLING CODE 7020-02-P